DEPARTMENT OF AGRICULTURE

Office of Inspector General

Succession, Delegations of Authority, and Signature Authorities

AGENCY: Office of Inspector General (OIG), Department of Agriculture (USDA).

ACTION: Notice.

SUMMARY: On August 1, 2024, pursuant to the Federal Vacancies Reform Act of 1998 and the Inspector General (IG) Act of 1978, as amended, USDAIG Phyllis K. Fong issued IG-1313, Change 9, Succession, Delegations of Authority, and Signature Authorities. This directive supersedes IG-1313, Change 8, dated November 8, 2016, as amended by Assistant Inspector General (AIG) Bulletin C-20-001-1313, dated June 24, 2020; and all previous delegations to the extent that they are inconsistent with this publication. This publication supersedes the USDA OIG's prior notice of succession order.

DATES: The revised directive referenced in this notice was issued on August 1, 2024.

FOR FURTHER INFORMATION CONTACT: Christy A. Slamowitz, Counsel to the IG, USDA, 1400 Independence Avenue SW, Room 441-E, Washington, DC 20250-2308, Telephone: (202) 720-9110.

SUPPLEMENTARY INFORMATION: USDA OIG is issuing this notice to publish an updated line of succession and delegations of authority within USDA OIG. This publication supersedes the prior notice of succession order for USDA OIG published at 85 FR 58331 (September 18, 2020). Accordingly, pursuant to the Federal Vacancies Reform Act of 1998 (5 U.S.C. 3345-3349d) and 5 U.S.C. 401-424, the IG has designated the detailed sequence of succession as follows:

I. During any period in which the USDA IG, dies, resigns, or is otherwise unable to perform the functions and duties of the office (“incapacity”), and unless the President shall designate another officer to perform the functions and duties of the position, the Deputy IG, as the designated first assistant to the IG, shall temporarily perform the IG's functions and duties in an acting capacity, pursuant to and subject to the Federal Vacancies Reform Act (5 U.S.C. 3345-3349d) and 5 U.S.C. 403(h). However, per 5 U.S.C. 3345(b)(1), the Deputy IG does not become the acting IG if, during the 365-day period preceding the IG's incapacity, the Deputy IG served as Deputy IG for less than 90 days and the President has nominated that Deputy IG as the new IG. In the absence of the IG and Deputy IG, the officials designated below, in the order listed, shall become the acting Deputy IG and so shall temporarily perform the functions and duties of the IG. This order may be changed by a delegation in writing by the IG, or by the Deputy IG while acting in the absence of the IG:

1. Assistant IG for Audit (AIG/A);

2. Assistant IG for Investigations (AIG/I);

3. Assistant IG for Analytics and Innovation (AIG/AI);

4. Assistant IG for Management (AIG/M);

5. Counsel to the IG;

6. Deputy Assistant IG for Audit (DAIG/A), by seniority;

7. Deputy Assistant IG for Investigations (DAIG/I);

8. Deputy Assistant IG for Analytics and Innovation (DAIG/AI); and

9. Audit Directors and SACs, alternating, by seniority (i.e., most senior Audit Director, then most senior SAC, then second most senior Audit Director, then second most senior SAC, and so on). For purposes of this paragraph only, the Division Director, Investigations Forensics and Technologies Division, will be counted as a SAC in the order of succession.

Notwithstanding the preceding paragraph, the President also may direct an officer or employee (“employee”) of any OIG (including but not limited to USDA's OIG) to perform the functions and duties of USDA's IG temporarily in an acting capacity pursuant to 5 U.S.C. 403(h)(2)(C). However, such officer or employee must have served in a position in an OIG for not less than 90 days during the 365-day period preceding the date of the IG's incapacity, unless the employee is serving as an Inspector General (but not solely as an acting Inspector General). The employee must also have a rate of pay equal to or greater than the GS-15 level prior to their appointment, and have demonstrated ability in accounting, auditing, financial analysis, law, management analysis, public administration, or investigations. Finally, in the 30 days prior to the appointment, the president must have given appropriate notice to both Houses of Congress regarding the substantive rationale for such direction.

If the IG has been placed on non-duty status by the President, the Deputy IG will perform the functions and duties of USDA's IG temporarily in an acting capacity, subject to relevant limitations for acting officers described above related to time serving in an OIG position. If the Deputy IG is unable to perform those functions or if the office is vacant, the President may direct a USDA OIG employee to assume those duties, provided that the employee also meets the requirements described above regarding pay rates and demonstrated ability in relevant areas of expertise, and provided that the employee also meets the requirements above regarding time served in an OIG position, and that they must meet those requirements through service with USDA OIG.

II. For purposes of this order of succession, the designated official is the person holding a permanent appointment to the position. Persons filling positions in an acting capacity do not substitute for officials holding a permanent appointment to a position. If a position is vacant or an official occupying the position on a permanent basis is absent or unavailable, authority passes to the next available official occupying a position in the order of succession.

III. This delegation is not in derogation of any authority residing in the above officials relating to the operation of their respective programs, nor does it affect the validity of any delegations currently in force and effect and not specifically cited as revoked or revised herein.

IV. The authorities delegated herein may not be re-delegated.

Authority: 5 U.S.C. 3345-3349d; 5 U.S.C. 401-424.

Dated: September 26, 2024.
Phyllis K. Fong,
Inspector General.

[FR Doc. 2024-22502 Filed 9-30-24; 8:45 am]

BILLING CODE 3410-23-P